DEPARTMENT OF HOMELAND SECURITY

Coast Guard

33 CFR Parts 100, 117 and 165

[USCG-2004-16938]

Quarterly Listings; Safety Zones, Security Zones, Special Local Regulations and Drawbridge Operation Regulations

AGENCY: Coast Guard, DHS.

ACTION: Notice of temporary rules issued.

SUMMARY: This document provides required notice of substantive rules issued by the Coast Guard and temporarily effective between October 1, 2003 and December 31, 2003, that were not published in the Federal Register. This quarterly notice lists temporary local regulations, drawbridge operation regulations, security zones, and safety zones, all of limited duration and for which timely publication in the Federal Register was not possible.

DATES: This notice is effective January 29, 2004.

ADDRESSES: The Docket Management Facility maintains the public docket for this notice. Documents indicated in this notice will be available for inspection or copying at the Docket Management Facility, U.S. Department of Transportation, Room PL-401, 400 Seventh Street SW., Washington, DC 20593-0001 between 9 a.m. and 5 p.m., Monday through Friday, except Federal Holidays. You may electronically access the public docket for this notice on the Internet at http://dms.dot.gov.

FOR FURTHER INFORMATION CONTACT: For questions on this notice contact LT Jeff Bray, Office of Regulations and Administrative Law, telephone (202) 267-2830. For questions on viewing, or on submitting material to the docket, contact Andrea M. Jenkins, Program Manager, Docket Operations, telephone 202-366-0271.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities and may also describe a zone around a vessel in motion. Special local regulations are issued to enhance the safety of participants and spectators at regattas and other marine events. Drawbridge operation regulations authorize changes to drawbridge schedules to accommodate bridge repairs, seasonal vessel traffic, and local public events. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these special local regulations, drawbridge operation regulations, security zones, or safety zones by Coast Guard officials on-scene prior to any enforcement action. However, the Coast Guard, by law, must publish in the Federal Register notice of substantive rules adopted. To meet this obligation without imposing undue expense on the public, the Coast Guard periodically publishes a list of these special local regulations, security zones, safety zones and temporary drawbridge operation regulations. Permanent rules are not included in this list because they are published in their entirety in the Federal Register. Temporary rules are also published in their entirety if sufficient time is available to do so before they are placed in effect or terminated. The safety zones, special local regulations, security zones and drawbridge operation regulations listed in this notice have been exempted from review under Executive Order 12866, Regulatory Planning and Review, because of their emergency nature, or limited scope and temporary effectiveness.

The following rules were placed in effect temporarily during the period from October 1, 2003, through December 31, 2003, unless otherwise indicated.

Dated: January 22, 2004
S.G. Venckus,
Chief, Office of Regulations and Administrative Law.

COTP Quarterly Report—4th Quarter 2003
COTP Docket | Location | Type | Effective date
Charleston 03-169 | Charleston, SC | Safety Zone | 12/6/2003
Corpus Christi 03-007 | Ingleside, TX | Safety Zone | 11/2/2003
Corpus Christi 03-008 | Port Aransas, TX | Safety Zone | 11/6/2003
Jacksonville 03-146 | St. Johns River, M 161.1 Volusia County, FL | Safety Zone | 10/23/2003
Jacksonville 03-149 | Atlantic Ocean, Jacksonsville, FL | Safety Zone | 10/23/2003
Jacksonville 03-156 | Atlantic Ocean, Daytona Beach, FL | Safety Zone | 11/7/2003
Jacksonville 03-161 | Volusia County, FL | Safety Zone | 11/24/2003
Jacksonville 03-162 | Lake Eustis, Eustis, FL | Safety Zone | 11/28/2003
Jacksonville 03-163 | St. Johns River, Jacksonville, FL | Safety Zone | 11/29/2003
Jacksonville 03-164 | West Lake Tohopekaliga, Kissimmee, FL | Safety Zone | 12/13/2003
Jacksonville 03-170 | Lake Eustis, Eustis, FL | Safety Zone | 12/5/2003
LA-LB 03-010 | Long Beach, CA | Safety Zone | 10/11/2003
Louisville 03-012 | Ohio River, M 602.0 TO 606.0 Louisville, KY | Safety Zone | 10/14/2003
Louisville 03-013 | Louisville, KY | Safety Zone | 10/3/2003
Memphis 03-003 | Rosedale, MS | Safety Zone | 10/10/2003
Memphis 03-004 | Osceloa, AR | Safety Zone | 10/15/2003
Memphis 03-005 | Osceola, AR | Safety Zone | 11/2/2003
Miami 03-150 | Columbus Day Regatta, Bicayne Bay, Miami, FL | Special Local Reg | 10/11/2003
Miami 03-158 | Port of Miami, Miami, FL | Security Zone | 11/19/2003
Miami 03-160 | Boca Raton, FL | Security Zone | 11/19/2003
Morgan City 03-006 | Louisa, LA | Safety Zone | 10/23/2003
Morgan City 03-008 | Amelia, LA | Safety Zone | 11/6/2003
Morgan City 03-012 | Amelia, LA | Safety Zone | 11/18/2003
Morgan City 03-013 | Morgan City, LA | Safety Zone | 12/2/2003
Morgan City 03-014 | Berwick, LA | Security Zone | 12/9/2003
Pittsburgh 03-023 | Pittsburgh, PA | Safety Zone | 10/4/2003
Pittsburgh 03-024 | Pittsburgh, PA | Safety Zone | 10/3/2003
Pittsburgh 03-025 | Pittsburgh, PA | Safety Zone | 10/18/2003
Pittsburgh 03-026 | Star City, WV | Safety Zone | 10/31/2003
Pittsburgh 03-027 | Star City, WV | Safety Zone | 11/3/2003
Pittsburgh 03-028 | Star City, WV | Safety Zone | 11/7/2003
Pittsburgh 03-031 | Pittsburgh, PA | Security Zone | 12/2/2003
Port Arthur 03-020 | Neches River, Beaumont, TX | Safety Zone | 10/10/2003
Port Arthur 03-023 | Beaumont, TX | Safety Zone | 11/10/2003
San Diego 03-031 | Colorado River, Parker, AZ | Safety Zone | 11/28/2003
San Diego 03-034 | Pacific Ocean, San Diego Bay, San Diego, CA | Safety Zone | 11/9/2003
San Francisco Bay 03-025 | San Franccisco, CA | Safety Zone | 10/10/2003
San Francisco Bay 03-028 | SFB, SPB, and Carquinez Strait, CA | Safety Zone | 11/5/2003
San Francisco Bay 03-031 | San Francisco Bay, CA | Safety Zone | 12/30/2003
Savannah 03-157 | Savannah River, Savanah, GA | Security Zone | 11/17/2003
Savannah 03-174 | Savannah River, Savannah, GA | Security Zone | 12/16/2003
Savannah 03-175 | Savannah River, Savannah, GA | Security Zone | 12/18/2003
Wilmington 03-151 | Bogue Sound, NC | Safety Zone | 10/7/2003

District Quarterly Report—4th Quarter 2003
District docket | Location | Type | Effective date
01-03-109 | Bar Harbor, ME, M/V Acadia Clipper Salvage | Safety Zone | 10/24/2003
01-03-112 | Huntington, NY | Safety Zone | 12/31/2003
05-03-132 | SPA Creek, Annapolis, MD | Special Local Reg. | 11/8/2003
05-03-154 | Chesapeake Bay, Hampton Roads, VA | Security Zone | 10/1/2003
05-03-155 | Elizabeth River, Norfolk, VA | Drawbridge | 10/2/2003
05-03-157 | York River, West Point, VA | Safety Zone | 10/4/2003
05-03-158 | Chesapeake Bay, Hampton Roads, Elizabeth | Security Zone | 10/5/2003
05-03-159 | Chesapeake Bay, Hampton Roads, VA | Security Zone | 10/7/2003
05-03-161 | COTP Wilmington Zone | Safety Zone | 10/7/2003
05-03-162 | Chesapeake Bay, Hampton Roads, Elizabeth | Security Zone | 10/11/2003
05-03-163 | Chesapeake Bay, Hampton Roads, Elizabeth | Security Zone | 10/15/2003
05-03-164 | Hampton Roads, Virginia | Security Zone | 10/17/2003
05-03-165 | Chesapeake Bay, Hampton Roads, VA | Security Zone | 11/13/2003
05-03-166 | Bogue Sound, NC | Safety Zone | 10/20/2003
05-03-169 | Chesapeake Bay, Hampton Roads, VA | Security Zone | 10/14/2003
05-03-170 | COTP Wilmington Zone | Safety Zone | 10/14/2003
05-03-171 | Hampton Roads, Elizabeth River, VA | Security Zone | 10/19/2003
05-03-172 | Hampton Roads, Elizabeth River, VA | Security Zone | 10/23/2003
05-03-173 | Hampton Roads, Elizabeth River, VA | Security Zone | 11/3/2003
05-03-174 | Hampton Roads, Virginia | Security Zone | 10/20/2003
05-03-176 | Hampton Roads, Virginia | Security Zone | 10/28/2003
05-03-178 | Hampton Roads, Virginia | Security Zone | 11/1/2003
05-03-179 | Patapsco River, Northwest Harbor, Baltimore | Safety Zone | 11/7/2003
05-03-182 | Hampton Roads, Virginia | Security Zone | 11/7/2003
05-03-183 | Hampton Roads, Virginia | Security Zone | 11/12/2003
05-03-187 | Hampton Roads, Virginia | Security Zone | 11/17/2003
05-03-189 | Hampton Roads, Virginia | Security Zone | 11/22/2003
05-03-191 | Hampton Roads, Virginia | Security Zone | 11/27/2003
05-03-192 | Hampton Roads, Virginia | Security Zone | 11/30/2003
05-03-193 | Hampton Roads, Virginia | Security Zone | 12/2/2003
05-03-194 | Delaware Bay and River | Safety Zone | 11/26/2003
05-03-197 | Hampton Roads, Virginia | Security Zone | 12/5/2003
05-03-198 | Baltimore, Maryland | Security Zone | 12/5/2003
05-03-201 | Virginia Beach, Virginia | Safety Zone | 12/4/2003
05-03-202 | Hampton Roads, Virginia | Security Zone | 12/11/2003
05-03-203 | Hampton Roads, Virginia | Security Zone | 12/16/2003
05-03-208 | Delaware Bay and River | Safety Zone | 12/16/2003
05-03-209 | Hampton Roads, Virginia | Security Zone | 12/19/2003
05-03-210 | Hampton Roads, Virginia | Security Zone | 12/26/2003
05-03-212 | Hampton Roads, Virginia | Security Zone | 12/26/2003
09-03-250 | Chicago, IL | Safety Zone | 10/4/2003
09-03-279 | COTP Detroit Zone, Renaissance Center | Security Zone | 10/2/2003
09-03-281 | Chicago, IL | Safety Zone | 11/22/2003
09-03-282 | Saint Lawrence Seaway, New York | Safety and Security | 11/2/2003
09-03-286 | Chicago, IL | Safety Zone | 12/7/2003
11-03-007 | Stockton, CA | Drawbridge | 12/1/2003
13-03-037 | Puget Sound, Washington | Security Zone | 10/8/2003
13-03-038 | Columbia River | Safety Zone | 11/8/2003
13-03-039 | Puget Sound, Washington | Security Zone | 12/9/2003

[FR Doc. 04-1861 Filed 1-28-04; 8:45 am]

BILLING CODE 4910-15-M